DEPARTMENT OF HOMELAND SECURITY

Coast Guard

33 CFR Part 105

[USCG-2003-14732]

RIN 1625-AA43

Facility Security; Correction

AGENCY: Coast Guard, DHS.

ACTION: Correcting amendments.

SUMMARY: On July 1, 2003, the Coast Guard published a temporary interim rule with request for comments and notice of meeting in the Federal Register concerning the implementation of national maritime security initiatives for facilities. This document contains corrections to that rule.

DATES: Effective on July 1, 2003.

FOR FURTHER INFORMATION CONTACT: For information concerning this document, write or call Lieutenant Gregory Purvis (G-MP), U.S. Coast Guard by telephone 202-267-1103, toll-free telephone 1-800-842-8740 ext. 7-1103, or by electronic mail msregs@comdt.uscg.mil. If you have questions on viewing or submitting material to the docket, call Dorothy Beard, Chief, Dockets, Department of Transportation, at telephone 202-366-5149.

SUPPLEMENTARY INFORMATION: The Coast Guard published a temporary interim rule with request for comments and notice of meeting in the Federal Register on July 1, 2003, (68 FR 39315). The rule contained typographical errors and omissions that may prove to be misleading and therefore need to be corrected.

Corrections to the Preamble

In the temporary interim rule FR Doc. 03-16189 published in the Federal Register on July 1, 2003, make the following corrections:

1. On page 39318, in the second column, on line 18, correct “them” to read “then”.

Corrections to the Regulatory Text

PART 105—FACILITY SECURITY

1. Correct part 105 by revising the authority citation to read as follows:

Authority: 33 U.S.C. 1226, 1231; 46 U.S.C. 70103; 50 U.S.C. 191; 33 CFR 1.05-1, 6.04-11, 6.14, 6.16, and 6.19; Department of Homeland Security Delegation No. 0170.1.

§ 105.130 [Corrected]

2. Correct § 105.130 by removing the last sentence. § 105.410 [corrected]

§ 105.410 [Corrected]

3. In § 105.410(d), correct the words “approved by the cognizant COTP.” to read “approved by each cognizant COTP.”

Dated: July 11, 2003.
T.H. Gilmour,
Rear Admiral, U.S. Coast Guard, Assistant Commandant for Marine Safety, Security and Environmental Protection.

[FR Doc. 03-17981 Filed 7-15-03; 8:45 am]

BILLING CODE 4910-15-P